DEPARTMENT OF TRANSPORTATION

Federal Aviation Administration

RTCA Special Committee 181/EUROCAE Working Group 13: Standards of Navigation Performance

AGENCY: Federal Aviation Administration (FAA), DOT.

ACTION: Notice of RTCA Special Committee 181/EUROCAE Working Group 13 meeting.

SUMMARY: The FAA is issuing this notice to advise the public of a meeting of RTCA Special Committee 181/EUROCAE Working Group 13: Standards of Navigation Performance.

DATES: The meeting will be held February 10-14, 2003 starting at 9 am.

ADDRESSES: The meeting will be held at the RTCA Inc., Suite 805, 1828 L Street, NW., Washington, DC 20036.

FOR FURTHER INFORMATION CONTACT: (1) RTCA Secretariat, 1828 L Street, NW., Suite 805, Washington, DC, 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Special Committee 181/EUROCAE Working Group 13 meeting.

Note: Working Groups 1 & 4 will meet separately February 10-13.

The Plenary agenda will include:

• September 20

• Opening Plenary Session (Chairman Remarks, Review/Approval of Previous Meeting Minutes)

• Review Working Group (WG) Progress

• WG-1 Report

• WG-4 Report

• Review/Approval—Final Draft of Revised DO-257, Minimum Operational Performance Standards for the Depiction of Navigation Information on Electronic Maps, RTCA Paper No. 003-03/SC181-196

• Review/Approval—Proposed Change 1 to DO-283, Minimum Operational Performance Standards for Required Navigation Performance for Area Navigation, RTCA Paper No. 005-03/SC181-198

• Other business

• Aircraft Owner & Pilots Association Input to WG-4

• FAA Position Paper

• Terminal Area Operation Aviation Rulemaking Committee Related Activities

• Future of SC-181

• Closing Plenary Session (New Business, Review of Action Items, Future Meeting Schedule, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on Janaury 14, 2003.
Janice L. Peters,
FAA Special Assistant, RTCA Advisory Committee.

[FR Doc. 03-2057 Filed 1-28-03; 8:45 am]

BILLING CODE 4910-13-M